SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions and extensions of OMB-approved information collections and a new collection.

SSA is soliciting comments on the accuracy of the agency's burden estimate; the need for the information; its practical utility; ways to enhance its quality, utility, and clarity; and ways to minimize the burden on respondents, including the use of automated collection techniques or other forms of information technology. Mail, e-mail, or fax your comments and recommendations on the information collection(s) to the OMB Desk Officer and the SSA Reports Clearance Officer to the addresses or fax numbers shown below.

(OMB), Office of Management and Budget, Attn: Desk Officer for SSA, Fax: 202-395-6974, E-mail address: OIRA_Submission@omb.eop.gov.

(SSA), Social Security Administration, DCBFM, Attn: Reports Clearance Officer, 1332 Annex Building, 6401 Security Blvd., Baltimore, MD 21235, Fax: 410-965-6400, E-mail address: OPLM.RCO@ssa.gov.

I. The information collection below is pending at SSA. SSA will submit it to OMB within 60 days from the date of this notice. To be sure we consider your comments, we must receive them no later than July 20, 2009. Individuals can obtain copies of the collection instrument by calling the SSA Reports Clearance Officer at 410-965-3758 or by writing to the e-mail address we list above.

1. Disability Report—Adult—20 CFR 404.1512, 416.912—0960-0579. State Disability Determination Services (DDS) use the information collected by the SSA-3368 and its electronic versions to determine if an adult disability applicant's impairment(s) is severe and, if so, how the impairment(s) affects the applicant's ability to work. This determination dictates whether the DDSs and SSA will find the applicant to be disabled. Therefore, the information the DDSs collect on this form is crucial in making disability determinations for all adult claimants filing for SSA disability benefits and/or Supplemental Security Income (SSI) payments. The respondents are applicants for Title II benefits and/or Title XVI payments.

Type of Request: Revision of an OMB-approved information collection.

Collection method | Number of respondents | Frequency of response | Average burden per response (hours) | Estimated annual burden (hours)
SSA-3368 (Paper Form) | 22,950 | 1 | 1 | 22,950
Electronic Disability Collection System (EDCS) | 2,238,826 | 1 | 1 | 2,238,826
i3368 (Internet) | 319,994 | 1 | 1½ | 479,991
i3368PRO (Internet professional users-rollout only) | 10,264 | 1 | 1½ | 15,396
Totals | 2,592,034 |  |  | 2,757,163

2. Function Report Adult-Third Party—20 CFR 404.1512 & 416.912—0960-0635. Disability Determination Services (DDS) use the information from the SSA-3380-BK to determine eligibility for SSI and Social Security Disability Insurance (SSDI) claims. The information is an evidentiary source DDS evaluators use to determine eligibility for SSI and SSDI claims. The respondents are third parties familiar with the functional limitations (or lack thereof) of claimants who apply for SSI and SSDI benefits.

Type of Request: Revision of an OMB-approved information collection.

Respondent types | Number of respondents | Frequency of response | Average burden per response (minutes) | Estimated annual burden (hours)
Individuals | 500,000 | 1 | 61 | 508,333
Private Sector | 500,000 | 1 | 61 | 508,333
Total: | 1,000,000 |  |  | 1,016,666

3. Function Report Adult—20 CFR 404.1512 & 416.912—0960-0681. State DDSs use Form SSA-3373-BK to collect information about a disability applicant's or recipient's impairment-related limitations and ability to function. The information is an evidentiary source DDS evaluators use to determine eligibility for SSI and SSDI claims. The respondents are Title II and Title XVI applicants (or current recipients undergoing redeterminations) for disability benefits.

Type of Request: Revision of an OMB-approved information collection.

Number of Respondents: 4,005,367.

Frequency of Response: 1.

Average Burden per Response: 61 minutes.

Estimated Annual Burden: 4,072,123 hours.

II. SSA has submitted the information collections we list below to OMB for clearance. Your comments on the information collections would be most useful if OMB and SSA receive them within 30 days from the date of this publication. To be sure we consider your comments, we must receive them no later than June 22, 2009. You can obtain a copy of the OMB clearance packages by calling the SSA Reports Clearance Officer at 410-965-3758 or by writing to the above email address.

1. Request for Workers' Compensation/Public Disability Benefit Information—20 CFR 404.408(e)—0960-0098. SSA uses Form SSA-1709 to verify Worker's Compensation/Public Disability Benefits (WC/PDB). SSA uses the information to compute the correct reduction of disability insurance benefits. The claimant may be able to furnish adequate verification of the WC/PDB benefits by submitting a copy of his or her award notice, benefit check, etc. SSA considers the claimant the primary source of verification. If he or she provides the necessary evidence, we do not use the form. If the claimant cannot provide evidence, the other reliable source of this information is the entity giving the benefits, its agent (such as an insurance carrier), or an administering public agency. The respondents are Federal, state, and local agencies administering WC/PDB, insurance carriers, and public or private self-insured companies.

Type of Request: Extension of an OMB-approved information collection.

Number of Respondents: 120,000.

Frequency of Response: 1.

Average Burden per Response: 15 minutes.

Estimated Annual Burden: 30,000 hours.

2. Prohibition of Payment of SSI Benefits to Fugitive Felons and Parole/Probation Violators—20 CFR 416.708(o)—0960-0617. Section 1611(e)(4) of the Social Security Act precludes eligibility for SSI payments for certain fugitives and probation/parole violators. Regulations at 20 CFR 416.708(o) require individuals to report to SSA that he or she is fleeing to avoid prosecution for a crime, fleeing to avoid custody or confinement after conviction of a crime, or violating a condition of probation or parole. SSA will use the information reported to deny eligibility or to suspend recipient's SSI payments. The respondents are SSI applicants/recipients or representative payees of SSI recipients who are reporting the applicant's/recipient's status as a fugitive felon or probation/parole violator.

Type of Request: Extension of an OMB-approved information collection.

Number of Respondents: 1,000.

Frequency of Response: 1.

Average Burden per Response: 1 minute.

Estimated Annual Burden: 17 hours.

Dated: May 14, 2009.
John Biles,
Reports Clearance Officer, Center for Reports Clearance, Social Security Administration.

[FR Doc. E9-11716 Filed 5-20-09; 8:45 am]

BILLING CODE 4191-02-P